DEPARTMENT OF COMMERCE

International Trade Administration

[C-570-080]

Countervailing Duty Investigation of Cast Iron Soil Pipe From the People's Republic of China: Postponement of Preliminary Determination

AGENCY: Enforcement and Compliance, International Trade Administration, Department of Commerce.

DATES: Applicable April 9, 2018.

FOR FURTHER INFORMATION CONTACT: Omar Qureshi, AD/CVD Operations, Office V, Enforcement and Compliance, International Trade Administration, U.S. Department of Commerce, 1401 Constitution Avenue NW, Washington, DC 20230; telephone: (202) 482-5307.

SUPPLEMENTARY INFORMATION:

Background

On February 15, 2018, the Department of Commerce (Commerce) initiated the countervailing duty (CVD) investigation of cast iron soil pipe from the People's Republic of China.¹ Currently, the preliminary determination is due no later than April 23, 2018.

¹ See Cast Iron Soil Pipe from the People's Republic of China: Initiation of Countervailing Duty Investigation, 83 FR 8047 (February 23, 2018).

Postponement of the Preliminary Determination

Section 703(b)(1) of the Tariff Act of 1930, as amended (the Act), requires Commerce to issue the preliminary determination in a CVD investigation within 65 days of the date on which Commerce initiated the investigation. However, if the petitioner makes a timely request for an extension of the period within which the determination must be made, Commerce may postpone making the preliminary determination until no later than 130 days after the date on which it initiated the investigation, pursuant to section 703(c)(1)(A) of the Act. The Cast Iron Soil Pipe Institute (the petitioner) has made a timely request to postpone the preliminary determination, maintaining that the current deadline does not realistically provide Commerce with adequate time to review the questionnaire responses.²

² See, the petitioner's March 28, 2018, submission.

In light of the request from the petitioner, Commerce, in accordance with section 703(c)(l)(A) of the Act, is postponing the deadline for the preliminary determination to no later than 130 days after the day on which Commerce initiated this investigation, i.e., June 25, 2018. Pursuant to section 705(a)(1) of the Act and 19 CFR 351.210(b)(1), the deadline for the final determination will continue to be 75 days after the date of the preliminary determination, unless postponed.

This notice is issued and published in accordance with section 703(c)(2) of the Act and 19 CFR 351.205(f)(1).

Dated: April 3, 2018.
Gary Taverman,
Deputy Assistant Secretary for Antidumping and Countervailing Duty Operations performing the non-exclusive functions and duties of the Assistant Secretary for Enforcement and Compliance.

[FR Doc. 2018-07192 Filed 4-6-18; 8:45 am]

BILLING CODE 3510-DS-P